ENVIRONMENTAL PROTECTION AGENCY

[FRL-7599-3]

Federal Agency Hazardous Waste Compliance Docket

AGENCY: Environmental Protection Agency.

ACTION: Notice of eighteenth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this eighteenth update of the docket and includes facilities not previously listed on the docket and reported to EPA since the last update of the docket, 68 FR 107, January 2, 2003, which was current as of February 4, 2003. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains 3 additions and 0 deletions since the previous update, as well as numerous other corrections to the docket list. At the time of publication of this notice, the new total number of Federal facilities listed on the docket is 2,257.

DATES: This list is current as of August 14, 2003.

FOR FURTHER INFORMATION CONTACT: Electronic versions of the docket may be obtained at http://epa.gov/compliance/cleanup/federal/index.html.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222), October 2, 2001 (66 FR 50185), July 1, 2002 (67 FR 44200), and January 2, 2003 (68 FR 107). This notice constitutes the eighteenth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Millán-Ramos (HBS), US EPA Region 1, #1 Congress St., Suite 1100, Boston, MA 02114-2023, (617) 918-1377

Helen Shannon (ERRD), US EPA Region 2, 290 Broadway, 18th Floor, New York, NY 10007-1866, (212) 637-4260

Alida Karas (ERRD), US EPA Region 2, 290 Broadway, New York, NY 10007-1866, (212) 637-4276

Cesar Lee (3HS50), US EPA Region 3, 1650 Arch Street, Philadelphia, PA 19107, (215) 814-3205

Gena Townsend (4WD-FFB), US EPA Region 4, 61 Forsyth St., SW., Atlanta, GA 30303, (404) 562-8538

Laura Ripley (SE-5J), US EPA Region 5, 77 W. Jackson Blvd., Chicago, IL 60604, (312) 886-6040

Philip Ofosu (6SF-RA), US EPA Region 6, 1445 Ross Avenue, Dallas, TX 75202-2733, (214) 665-3178

D. Karla Asberry (FFSC), US EPA Region 7, 901 N. Fifth Street, Kansas City, KS 66101, (913) 551-7595

Stan Zawistowski (EPR-F), US EPA Region 8, 999 18th Street, Suite 500, Denver, CO 80202-2466, (303) 312-6255

Philip Armstrong (SFD-9-1), US EPA Region 9, 75 Hawthorne Street, San Francisco, CA 94105, (415) 972-3098

Ken Marcy (ECL-115), US EPA Region 10, 1200 Sixth Avenue, Seattle, WA 98101, (206) 553-2782

Monica Lindeman (ECL, SACU2), US EPA Region 10, 1200 Sixth Avenue, Seattle, WA 98101, (206) 553-5113

2.0 Revisions of the Previous Docket

Following is a discussion of the revisions of the previous docket, including additions, deletions, and corrections.

2.1 Additions

Today, 3 facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the 3 facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs and have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, 0 facilities are being deleted from the docket. When facilities are deleted from the docket, it is for reasons such as incorrect reporting of hazardous waste activity, change in ownership, and exemption as an SQG under RCRA (40 CFR 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRAInfo), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Augusta K. Wills, Federal Agency Hazardous Waste Compliance Docket Coordinator, Federal Facilities Enforcement Office (Mail Code 2261A), U.S. Environmental Protection Agency, 1200 Pennsylvania Avenue NW., Washington, DC 20004.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Facility Status Reporting

EPA has expanded the docket database to include information on the NFRAP status of listed facilities. Indicating NFRAP status allows easy identification of facilities that, after submitting all necessary site assessment information, were found to warrant no further involvement on the part of EPA at the time of the status change. Accordingly, the docket database includes the following facility status codes:

U=Undetermined

N=No further remedial action planned (NFRAP)

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, an updated list of facilities having NFRAP status (those for which an “N” appears in the status field) was generated; the list of updates since the previous publication of the docket is being published today.

Important limitations apply to the list of facilities that have NFRAP status. First, the information is accurate only as of August 14, 2003. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this fifteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: For example 3010, 3016, and 103(c).

The complete list of Federal facilities that now make up the docket and the complete list of facilities classified as no further remedial action planned (NFRAP) are not being published today. However, the lists are available to interested parties and can be obtained at http://www.epa.gov/compliance/cleanup/federal/index.html or by calling the HQ Docket Coordinator at (202) 564-2468. As of today, the total number of Federal facilities that appear on the docket is 2,257.

Dated: December 8, 2003.
David J. Kling,
Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Must Submit proof of previously performed PA, which is subject to approval by EPA)

(22) Changing Responsible Federal Agency and Facility Name (New Responsible Must Submit proof of previously performed PA, which is subject to approval by EPA)

(23) New Reporting Mechanism Added at Update

(24) Reporting Mechanism Determined To Be Not Applicable After Review of Regional Files

Note: Further information on definitions of categories can be obtained by calling Augusta K. Wills, the HQ Docket Coordinator at (202) 564-2468.

Federal Agency Hazardous Waste Compliance Docket #18-Additions
Facility name | Address | City | State | Zip code | Agency | Reporting mechanism | Code
FWS-Grays Lake National Wildlife Refuge | 74 Grays Lake Rd 30 Mi N of Soda Springs | Wayan | ID | 83285 | 3010 | Interior | 19A.
FS-Ochoco NF: Amity Mine | FS Rd 42 & FS Rd 152 T14S R20E S15, W.M | Prineville | OR | 97754 | 103c | Agriculture | 19A.
FS-Ochoco NF: Blue Ridge Mine | FS Rd 42 & FS Rd 200 T14S R20E S15, W.M | Prineville | OR | 97754 | 103c | Agriculture | 19A.

Federal Agency Hazardous Waste Compliance Docket Update #18—Corrections
| Facility name | Address | City | State | Zip code | Agency | Reporting mechanism | Code
c | CG—Point Spencer Dump Site | Port Clarence—60 Mi NW of Cy | Nome | AK | 99762 | Homeland Security | 103c 3010 | 21
o | CG—Point Spencer Dump Site | Port Clarence—60 Mi NW of Cy | Nome | AK | 99762 | Transportation | 103c 3010
c | CG—Loran Station on Sitkinak | Sitkinak Island | Old Harbor | AK | 99643 | Homeland Security | 103c | 21
o | CG—Loran Station on Sitkinak | Sitkinak Island | Old Harbor | AK | 99643 | Transportation | 103c
c | CG—St. Paul Island Loran Station | Saint Paul Airport, 1.5 Mi from Runway #2 | Saint Paul Island | AK | 99660 | Homeland Security | 3010 103c | 21
o | CG—St. Paul Island Loran Station | Saint Paul Airport, 1.5 Mi from Runway #2 | Saint Paul Island | AK | 99660 | Transportation | 3010 103c
c | CG—Edna Bay Entrance Light | Edna Bay, 32 Mi NW of City | Craig | AK | 99921 | Homeland Security | 3010 103c | 21
o | CG—Edna Bay Entrance Light | Edna Bay, 32 Mi NW of City | Craig | AK | 99921 | Transportation | 3010 103c
c | CG—Ketchikan Base | Tongass Hwy 1 Mi S of Ketchikan | Ketchikan | AK | 99901 | Homeland Security | 3010 103c 3005 | 21
o | CG—Ketchikan Base | Tongass Hwy 1 Mi S of Ketchikan | Ketchikan | AK | 99901 | Transportation | 3010 103c 3005
c | CG—Kodiak Support Center | Womans Bay Kodiak Isl | Kodiak | AK | 99619 | Homeland Security | 3010 103c 3016 3005 | 21
o | CG—Kodiak Support Center | Womans Bay Kodiak Isl | Kodiak | AK | 99619 | Transportation | 3010 103c 3016 3005
c | CG—Cape Sarichef | Unimak Island, W Coast | Unimak | AK | 99685 | Homeland Security | 103c | 21
o | CG—Cape Sarichef | Unimak Island, W Coast | Unimak | AK | 99685 | Transportation | 103c
c | Mobile Coast Guard Base | South Broad St | Mobile | AL | 36615 | Homeland Security | 3010 103a 103c | 21
o | Mobile Coast Guard Base | South Broad St | Mobile | AL | 36615 | Transportation | 3010 103a 103c
c | W.G. Huxtable Pumping Plant | On The St. Francis River—10 Miles E on Hwy. 121/Hwy 79 | Marianna | AR | 72360 | Corps of Engineers, Civil | 3010 103c | 20A, 23
o | Huxtable Pumping | Highway 79 8M N | Marianna | AR | 72360 | Corps of Engineers, Civil | 3010
c | Hassayampa/Lynx Creek Abandoned Mines | 5 Miles SE Prescott-Prescott Natl Forest | Prescott | AZ | 86301 | Agriculture | 103c 3016 103a | 20A
o | Prescott NF: Upper Hassayampa Creek Mines |  | Prescott | AZ | 86303 | Agriculture | 103c 3016 103a
c | National Guard Camp Navajo | 1002 Hale Dr I-40 Ex 185 | Bellemont | AZ | 86015-9999 | Army | 3005 3010 3016 103c | 20A
o | Navajo Army Depot | I-40 | Flagstaff | AZ | 86001 | Army | 3005 3010 3016 103c
c | Yuma Border Patrol Sector | 350 First St | Yuma | AZ | 85364 | Homeland Security | 3010 | 21
o | Yuma Border Patrol Sector | 350 First St | Yuma | AZ | 85364 | Justice | 3010
c | Edwards Air Force Base | AFFTC Edwards AFB | Edwards AFB | CA | 93524 | Air Force | 3005 3010 3016 103c | 20A
o | Edwards Air Force Base | P.O. Box 458 | Edwards | CA | 93523 | Air Force | 3005 3010 3016 103c
c | Mendocino NF: Eel River Work Center Waste Sump | T.23 N., R. 11 W., NE¼ of Section 28 | Willits | CA | 95490 | Agriculture | 103a 103c | 20A, 23
o | Mendocino NF: Eel River Work Center Waste Sump | T23N R11W S28 NE¼ | Covelo | CA |  | Agriculture | 103a
c | Alameda Coast Guard Support Center | Coast Guard Government Island | Alameda | CA | 94501 | Homeland Security | 3010 103c | 21
o | Alameda Coast Guard Support Center | Coast Guard Government Island | Alameda | CA | 94501 | Transportation | 3010 103c
c | San Francisco CAMSPAC | 525 Mesa Road | Bolinas | CA | 94956 | Homeland Security | 3010 103c | 21
c | San Francisco CAMSPAC | 525 Mesa Road | Bolinas | CA | 94956 | Transportation | 3010 103c
c | U.S. Border Patrol Station | 225 Kenney | El Cajon | CA | 92020 | Homeland Security | 103c | 21
c | U.S. Border Patrol Station | 225 Kenney | El Cajon | CA | 92020 | Justice | 103c
c | Middletown Coast Guard Loran C Station | Loran C Station | Middletown | CA | 95461 | Homeland Security | 103c | 21
o | Middletown Coast Guard Loran C Station | Loran C Station | Middletown | CA | 95461 | Transportation | 103c
c | San Francisco Coast Guard Base | Yerba Buena Island | San Francisco | CA | 94130 | Homeland Security | 3010 103c | 21
o | San Francisco Coast Guard Base | Yerba Buena Island | San Francisco | CA | 94130 | Transportation | 3010 103c
c | Fort MacArthur | Pacific Avenue | San Pedro | CA | 90731 | Homeland Security | 103c | 21
o | Fort MacArthur | Pacific Avenue | San Pedro | CA | 90731 | Transportation | 103c
c | San Pedro Coast Guard Support Center | 1801 Seaside Ave | San Pedro | CA | 90731 | Homeland Security | 3010 103c | 21
o | San Pedro Coast Guard Support Center | 1801 Seaside Ave | San Pedro | CA | 90731 | Transportation | 3010 103c
c | San Ysidro Border Patrol | 3752 Beyer Blvd | San Ysidro | CA | 92073 | Homeland Security | 3010 | 21
o | San Ysidro Border Patrol | 3752 Beyer Blvd | San Ysidro | CA | 92073 | Justice | 3010
c | Former NAVSTA Long Beach | Navy Mole Pier | Long Beach | CA | 90822 | Navy | 3010 103c 103a | 20A
o | Long Beach Naval Station | Seaside Ave | Long Beach | CA | 90822 | Navy | 3010 103c 103a
c | Former NTC San Diego | Rosencranz & Nimitz Blvds | San Diego | CA | 92133 | Navy | 3010 103c 3016 | 20A
o | San Diego Naval Training Center | Rosencranz & Nimitz Blvds | San Diego | CA | 92133 | Navy | 3010 103c 3016
c | USAF Academy | 8120 Edgerton Dr | Colorado Springs | CO | 80840-2400 | Air Force | 3010 103c | 20A
o | Colorado Springs Academy | AFA/DE | Colorado Springs | CO | 80840 | Air Force | 3010 103c
c | BLM—Town of Mesa Landfill | T10S, R96W, Sec22 | Molina | CO | 81646 | Interior | 103c | 20A
o | BLM—Town of Mesa Landfill | T10S, R96W, Sec22 | Molina | CO |  | Interior | 103c
c | Long Island Sound Coast Guard Group | 120 Woodward Ave | New Haven | CT | 06512 | Homeland Security | 3010 103c | 21
o | Long Island Sound Coast Guard Group | 120 Woodward Ave | New Haven | CT | 06512 | Transportation | 3010 103c
c | U.S. Coast Guard Academy | Mohegan Ave | New London | CT | 06320 | Homeland Security | 3005 3010 | 21
o | U.S. Coast Guard Academy | Mohegan Ave | New London | CT | 06320 | Transportation | 3005 3010
c | CG—Cape Canaveral Light | 9235 Grouper Rd | Cape Canaveral | FL | 33131 | Homeland Security | 3010 | 21
o | CG—Cape Canaveral Light | 9235 Grouper Rd | Cape Canaveral | FL | 33131 | Transportation | 3010
c | CG—Crooked River Light | Rt 98 | Carrabelle | FL | 33131 | Homeland Security | 3010 | 21
o | CG—Crooked River Light | Rt 98 | Carrabelle | FL | 33131 | Transportation | 3010
c | CG—Sand Key Light | CG Group Key W Trumbo Pt Annex | Key West | FL | 33131 | Homeland Security | 3010 | 21
o | CG—Sand Key Light | CG Group Key W Trumbo Pt Annex | Key West | FL | 33131 | Transportation | 3010
c | Key West Coast Guard Station |  | Key West | FL | 33040 | Homeland Security | 3010 103c | 21
o | Key West Coast Guard Station |  | Key West | FL | 33040 | Transportation | 3010 103c
c | Mayport Coast Guard Base | PO Box 385 | Mayport | FL | 32267 | Homeland Security | 3010 103c 103a | 21
o | Mayport Coast Guard Base | PO Box 385 | Mayport | FL | 32267 | Transportation | 3010 103c 103a
c | CG—Carysfort Reef Light | 100 MacArthur Causeway | Miami Beach | FL | 33131 | Homeland Security | 3010 | 21
o | CG—Carysfort Reef Light | 100 MacArthur Causeway | Miami Beach | FL | 33131 | Transportation | 3010
c | Miami Beach Coast Guard Base | 100 MacArthur Cswy | Miami Beach | FL | 33139 | Homeland Security | 3005 3010 103c | 21
o | Miami Beach Coast Guard Base | 100 MacArthur Cswy | Miami Beach | FL | 33139 | Transportation | 3005 3010 103c
c | Miami Coast Guard Air Station | Opa Locka Airport | Opa Locka | FL | 33054 | Homeland Security | 103c 3010 | 21
o | Miami Coast Guard Air Station | Opa Locka Airport | Opa Locka | FL | 33054 | Transportation | 103c 3010
c | CG—Hillsboro Light | Hillsboro Inlet | Pompano Beach | FL | 33131 | Homeland Security | 3010 | 21
o | CG—Hillsboro Light | Hillsboro Inlet | Pompano Beach | FL | 33131 | Transportation | 3010
c | St. Petersburg Coast Guard Station | 600 8th Ave SE | St Petersburg | FL | 33701 | Homeland Security | 3010 103c | 21
o | St. Petersburg Coast Guard Station | 600 8th Ave SE | St Petersburg | FL | 33701 | Transportation | 3010 103c
c | Federal Law Enforcement Training Center | GA State Rd 303 | Glynco | GA | 31524 | Homeland Security | 3005 3010 3016 | 21
o | Federal Law Enforcement Training Center | GA State Rd 303 | Glynco | GA | 31524 | Treasury | 3005 3010 3016
c | CG—Kure Atoll | 300 Ala Moana Blvd, Ste 8122 | Honolulu | HI | 96850 | Homeland Security | 103c | 21
o | CG—Kure Atoll | 300 Ala Moana Blvd, Ste 8122 | Honolulu | HI | 96850 | Transportation | 103c
c | CG—Honolulu Coast Guard Base | Sand Island | Honolulu | HI | 96819 | Homeland Security | 3010 103c | 21
o | CG-Honolulu Coast Guard Base | Sand Island | Honolulu | HI | 96819 | Transportation | 3010 103c
c | Kanehoe Coast Guard Omega Station | Haiku Valley | Kaneohe | HI | 96744 | Homeland Security | 103c | 21
o | Kanehoe Coast Guard Omega Station | Haiku Valley | Kaneohe | HI | 96744 | Transportation | 103c
c | Cedar Rapids (EX) National Guard Target | 4 Miles N of Iowa City, 19 Miles S/SW of Cedar Rapids | Cedar Rapids | IA | 52401 | Corps of Engineers, Civil | 103c | 20A
o | Cedar Rapids (EX) National Guard Target | 4 Miles N of Iowa City, 19 Miles S/SW of Cedar Rapids | Cedar Rapids | IA | 52401 | Corps of Engineers, Civil | 103c
c | Saylorville Reservoir and Recreation Area | 5600 NW 78th Ave | Johnston | IA | 50131 | Corps of Engineers, Civil | 103c | 20A
o | Saylorville Reservoir and Recreation Area |  | Johnston | IA |  | Corps of Engineers, Civil | 103c
c | Palzo Mine Site-Shawnee | Springhill Church Road | Stonefort | IL | 62987 | Agriculture | 103c | 20A
o | National Forest Palzo Mine | Shawnee National Forest | Harrisburg | IL | 62946 | Agriculture | 103c
c | Michigan City East Pier Head Light | Washington Park Site B Pier | Michigan City | IN | 46360 | Homeland Security | 3010 | 21
o | Michigan City East Pier Head Light | Washington Park Site B Pier | Michigan City | IN | 46360 | Transportation | 3010
c | New Orleans Coast Guard Base | 4640 Urquhart Street | New Orleans | LA | 70117 | Homeland Security | 3010 103c | 21
o | New Orleans Coast Guard Base | 4640 Urquhart Street | New Orleans | LA | 70117 | Transportation | 3010 103c
c | U.S. Coast Guard Support | 427 Commercial St | Boston | MA | 02109 | Homeland Security | 3010 | 21
o | U.S. Coast Guard Support | 427 Commercial St | Boston | MA | 02109 | Transportation | 3010
c | Woods Hole Coast Guard Base | Little Harbor Road | Falmouth | MA | 02543 | Homeland Security | 3010 103c | 21
o | Woods Hole Coast Guard Base | Little Harbor Road | Falmouth | MA | 02543 | Transportation | 3010 103c
c | U.S. Coast Guard Buoy Depot South Weymouth | Trotter Road | South Weymouth | MA | 02190 | Homeland Security | 3005 3010 103c | 21
o | U.S. Coast Guard Buoy Depot South Weymouth | Trotter Road | South Weymouth | MA | 02190 | Transportation | 3005 3010 103c
c | Fort George G. Meade | MD Rt 175 | Odenton | MD | 21113 | Army | 3005 3010 3016 103c | 20A
o | Fort George G. Meade | MD Rt 175 | Odenton | MD | 20755 | Army | 3005 3010 3016 103c
c | Curtis Bay Coast Guard Yard | 2401 Hawkins Point Rd | Baltimore | MD | 21226 | Homeland Security | 3010 103c | 20A, 21
o | U.S. Coast Guard Yard | Hawkins Point Rd | Baltimore | MD | 21226 | Transportation | 3010 103c
c | Back Creek Rear Range Coast Guard Structure | 25 Ft Square Position | Chesapeake City | MD | 21915 | Homeland Security | 103c | 21
o | Back Creek Rear Range Coast Guard Structure | 25 Ft Square Position | Chesapeake City | MD | 21915 | Transportation | 103c
c | U.S. Coast Guard Base South Portland | 259 High St | South Portland | ME | 04106 | Homeland Security | 3010 103c | 21
o | U.S. Coast Guard Base South Portland | 259 High St | South Portland | ME | 04106 | Transportation | 3010 103c |
c | Charlevoix Coast Guard Station | 220 Coastguard Road | Charlevoix | MI | 49720 | Homeland Security | 3010 103c | 21
o | Charlevoix Coast Guard Station | 220 Coastguard Road | Charlevoix | MI | 49720 | Transportation | 3010 103c |
c | Saulte Ste Marie Coast Guard Group | Water St | Sault St Marie | MI | 49783 | Homeland Security | 3010 | 21
o | Saulte Ste Marie Coast Guard Group | Water St | Sault St Marie | MI | 49783 | Transportation | 3010 |
c | St. Joseph North Pier Head Light | 18535 Lite List | St. Joseph | MI | 49417 | Homeland Security | 3010 | 21
o | St. Joseph North Pier Head Light | 18535 Lite List | St. Joseph | MI | 49417 | Transportation | 3010 |
c | Traverse City Coast Guard Air Station (Ave “E” Groundwater | Airport Road | Traverse City | MI | 45685 | Homeland Security | 3010 103c | 21
o | Traverse City Coast Guard Air Station (Ave “E” Groundwater | Airport Road | Traverse City | MI | 45685 | Transportation | 3010 103c |
c | Duluth Coast Guard Station | 1201 Minnesota Ave | Duluth | MN | 55802 | Homeland Security | 3010 3016 103c | 21
o | Duluth Coast Guard Station | 1201 Minnesota Ave | Duluth | MN | 55802 | Transportation | 3010 3016 103c |
c | Fort Macon Coast Guard Station | PO Box 237 | Atlantic Beach | NC | 28512 | Homeland Security | 3010 103c | 21
o | Fort Macon Coast Guard Station | PO Box 237 | Atlantic Beach | NC | 28512 | Transportation | 3010 103c |
c | Elizabeth City Coast Guard Support Center | Hwy 34 S/4 Mi. S Elizabeth City | Elizabeth City | NC | 27909 | Homeland Security | 3005 3010 3016 103c | 21
o | Elizabeth City Coast Guard Support Center | Hwy 34 S/4 Mi. S Elizabeth City | Elizabeth | NC | 27909 | Transportation | 3005 3010 3016 103c |
c | Stanley R Mickelson Safeguard Complex | One Half Mile North of Nekoma | Nekoma | ND | 58355 | Air Force | 103c | 20A
o | Stanley R. Mickelson Safeguard Complex |  | Nekoma | ND |  | Air Force | 103c | 20A
c | Nebraska National Forest Site #2 | 5.5 Mi S of Hwy 2 | Halsey | NE | 69142 | Agriculture | 3016 103c | 16
o | Nebraska National Forest | State Rt 2 West Spur 868 PO Box 38 | Halsey | NE | 69142 | Agriculture | 3016 103c |
c | Nebraska National Forest Site #1 | State Rt 2 W | Halsey | NE | 69142 | Agriculture | 3016 103c | 16
o | Nebraska National Forest | State Rt 2 West Spur 868 PO Box 38 | Halsey | NE | 69142 | Agriculture | 3016 103c |
c | Sandy Hook Coast Guard Station | Hartshorne Drive | Highlands | NJ | 07732 | Homeland Security | 3010 103c | 21
o | Sandy Hook Coast Guard Station | Hartshorne Drive | Highlands | NJ | 07732 | Transportation | 3010 103c |
c | Plum Island Animal Disease Center | Route 25 | Orient Point | NY | 11957 | Homeland Security | 3016 103c 3010 | 21
o | Plum Island Animal Disease Center | Route 25 | Orient Point | NY | 11957 | Agriculture | 3016 103c 3010 | 21
c | Moriches Coast Guard Group | 100 Moriches Island Rd | East Moriches | NY | 11940 | Homeland Security | 3010 103c | 21
o | Moriches Coast Guard Group | 100 Moriches Island Rd | East Moriches | NY | 11940 | Transportation | 3010 103c |
c | Support Center Governor's Island | C/O U.S. Coast Guard Group | Governor's Island | NY | 10004 | Homeland Security | 3010 103c | 21
o | Support Center Governor's Island | C/O U.S. Coast Guard Group | Governor's Island | NY | 10004 | Transportation | 3010 103c |
c | Shinnecock Coast Guard Station | Shinnecock Station | Hampton Bays | NY | 11946 | Homeland Security | 3010 103c | 21
o | Shinnecock Coast Guard Station | Shinnecock Station | Hampton Bays | NY | 11946 | Transportation | 3010 103c |
c | Aids to Navigation Team | 7063 Lighthouse Drive | Saugerties | NY | 12477 | Homeland Security | 3010 103c | 21
o | Aids to Navigation Team | 7063 Lighthouse Drive | Saugerties | NY | 12477 | Transportation | 3010 103c
c | CG—Astoria Coast Guard Base | Hwy 30 at Tongue Point | Astoria | OR | 97103 | Homeland Security | 3010 103c | 20A, 21
o | Astoria Coast Guard Base | Hwy 30 at Tongue Point | Astoria | OR | 97103 | Transportation | 3010 103c
c | CG—Coos Bay Ant | 4333 Boat Basin Rd | Charleston | OR | 97420 | Homeland Security | 3010 103c | 21
o | CG—Coos Bay Ant | 4333 Boat Basin Rd | Charleston | OR | 97420 | Transportation | 3010 103c
c | CG—Portland Marine Safety Coast Guard | 6767 N Basin | Portland | OR | 97217 | Homeland Security | 3010 103c | 20A, 21
o | Portland Marine Safety Coast Guard Station | 6767 N Basin | Portland | OR | 97217 | Transportation | 3010 103c
c | Fort Dix Tacony Warehouse | 5100 Princeton Ave | Philadelphia | PA | 19135 | Army | 103c | 20A
o | Fort Dix Tacony Warehouse | 1500 Princeton Ave | Philadelphia | PA | 19124 | Army | 103c
c | Borinquen Coast Guard Air Station | Ramey Air Force Base | Aquadilla | PR | 00604 | Homeland Security | 3010 103c | 21
o | Borinquen Coast Guard Air Station | Ramey Air Force Base | Aquadilla | PR | 00604 | Transportation | 3010 103c
c | USAF Poinsett Electronic Combat Range | 5 Miles South of Wedgefield | Sumter | SC | 29168 | Air Force | 3010 3016 103c | 23
o | Shaw AFB Poinsett Range | SC Hwy 261 4 Miles of | Wedgefield | SC | 29167 | Air Force | 3016 103c
c | Charleston Coast Guard Group | 196 Tradd St | Charleston | SC | 29401 | Homeland Security | 3010 | 21
o | Charleston Coast Guard Group | 196 Tradd St | Charleston | SC | 29401 | Transportation | 3010
c | 101st Airborne Division (Air Assault) | West of U.S. 41A; at TN-KY Border | Border | TN | 3700 | Army | 3005 3010 | 20A
o | 101st Airborne Division (Air Assault) | West of U.S. 41 at Border |  | TN | 3700 | Army | 3005 3010
c | U.S. Coast Guard Shore Side Detachment Par | 700 Coast Guard Rd | Buchanan | TN | 38222 | Homeland Security | 3010 | 21
o | U.S. Coast Guard Shore Side Detachment Par | 700 Coast Guard Rd | Buchanan | TN | 38222 | Transportation | 3010
c | U.S. Coast Guard (Ouachita) Shoreside | 3551 Old Harrison Pike | Chattanooga | TN | 37416-2825 | Homeland Security | 3010 | 21
o | U.S. Coast Guard (Ouachita) Shoreside | 3551 Old Harrison Pike | Chattanooga | TN | 37416-2825 | Transportation | 3010
c | Cotton Insects Research Lab | 414 Ringold Rd | Brownsville | TX | 78520 | Agriculture | 103c | 20A
o | Cotton Insects Research Lab |  | Brownsville | TX | 78520 | Agriculture | 103c
c | Lake Lavon-North Gully-Site 1 | 2½ Mi SE of Hwy 380 | Lewisville | TX | 75077 | Corps of Engineers, Civil | 3016 103c | 20A
o | Lake Lavon-North Gully-Site 1 | Highway 380 | Wylie | TX | 75077 | Corps of Engineers, Civil | 3016 103c
c | Corpus Christi Coast Guard Depot | 1201 Navigation Blvd | Corpus Christi | TX | 78407 | Homeland Security | 3010 103c | 21
o | Corpus Christi Coast Guard Depot | 1201 Navigation Blvd | Corpus Christi | TX | 78407 | Transportation | 3010 103c
c | Galveston Coast Guard Base | Ferry Road | Galveston | TX | 77550 | Homeland Security | 3010 103c | 21
o | Galveston Coast Guard Base | Ferry Road | Galveston | TX | 77550 | Transportation | 3010 103c
c | Customs—Millington Addition | 4 Bl East of FM 170 | Presidio | TX | 79845 | Homeland Security | 103c | 21
o | Customs—Millington Addition | 4 Bl East of FM 170 | Presidio | TX | 79845 | Transportation | 103c
c | Virginia Ordnance Works | Callis Mines Road | Glen Wilton | VA | 24438 | Agriculture | 103c | 20A
o | Virginia Ordnance Works | Mines Street | Glen Wilton | VA | 24438 | Agriculture | 103c
c | Portsmouth Coast Guard Support Center | 4000 Coast Guard Blvd | Portsmouth | VA | 23703 | Homeland Security | 3010 103c | 21
o | Portsmouth Coast Guard Support Center | 4000 Coast Guard Blvd | Portsmouth | VA | 23703 | Transportation | 3010 103c
c | Yorktown Reserve Training Center | Route 238 SE Corner of York Co | Yorktown | VA | 23690 | Homeland Security | 3010 | 21
o | Yorktown Reserve Training Center | Route 238 SE Corner of York Co | Yorktown | VA | 23690 | Transportation | 3010
c | NAVSTA Norfolk | 1530 Gilbert St Ste 2000 | Norfolk | VA | 23511 | Navy | 3005 3010 3016 103c | 20A
o | Sewells Point Naval Complex | US 64 at VA 564 | Norfolk | VA | 23511 | Navy | 3005 3010 3016 103c
c | Flamingo Bay Army Test Areas—Former Fort | Water Island | St. Thomas | VI | 00802 | Interior | 103c | 20A
o | Flamingo Bay Army Test Areas Former Ft. Segarra | Water Island | St. Thomas | VI |  | Interior |  | 103c
c | Seattle Coast Guard Support Center | 1519 Alaskan Way S | Seattle | WA | 98134 | Homeland Security | 3010 3016 103c | 21
o | Seattle Coast Guard Support Center | 1519 Alaskan Way S | Seattle | WA | 98134 | Transportation | 3010 3016 103c
c | Seattle Coast Guard Support Center Annex | 2700 W Commodore Way | Seattle | WA | 98119 | Homeland Security | 3010 103c | 21
o | Seattle Coast Guard Support Center Annex | 2700 W Commodore Way | Seattle | WA | 98119 | Transportation | 3010 103c
c | Milwaukee Coast Guard Group Base | 2420 Lincoln Memorial Dr | Milwaukee | WI | 53207 | Homeland Security | 3010 103c | 21
o | Milwaukee Coast Guard Group Base | 2420 Lincoln Memorial Dr | Milwaukee | WI | 53207 | Transportation | 3010 103c
c | BLM—Baroil Landfill | T26NR 90WSec26 | Baroil | WY | 82322 | Interior | 103c | 20A
o | BLM—Baroil Landfill | T26NR 90WSec26 | Baroil | WY |  | Interior | 103c
c | BLM—Indian Creek Drums | I-90 & Indian Creek Road | Near Buffalo | WY | 82834 | Interior | 103c | 20A
o | BLM—Indian Creek Drums |  | Near Buffalo | WY | 82834 | Interior | 103c
c | Wyoming Air National Guard | Cheyenne Municipal Airport | Cheyenne | WY | 82003 | Air Force | 103c 3010 | 20A
o | Cheyenne Air National Guard | Cheyenne Municipal Airport | Cheyenne | WY | 82003 | Air Force | 103c 3010

Federal Agency Hazardous Waste Compliance Docket Update #18-NFRAP Status Changes
Facility name | Address | City | State | Zip code | Agency | Reporting mechanism
W.G. Huxtable Pumping Plant | On the St. Francis River—10 Miles E on Hwy. 121/Hwy 79 | Marinna | AR | 72360 | Corps of Engineers, Civil | 103c 3010.
Former NTC San Diego | Rosencranz & Nimitz Blvds | San Diego | CA | 92133 | Navy | 3010 103c 3016.
Nebraska National Forest Site #2 | 5.5 Mi S of Hwy 2 | Halsey | NE | 69142 | Agriculture | 3016 103c.
Sante Fe NF: Pecos Campground | 1220 St. Francis Drive | Santa Fe | NM | 87504 | Agriculture | 103c 3016.
Farmingdale Organizational Maintenance Shop #43 | 25 Baiting Place Road | Farmingdale | NV | 11735 | Army | 3010 103c.
BLM-Nevada Barth Corporation | T31NR51ESEC7, 8 | Palisade | NV | 89822 | Interior | 103c.
Fort Allen | Route 1 | Juana Diaz | PR | 00665 | Army | 103c 3010 3016.
Lake Lavon-St Paul Site 2 | S End Rolling Meadows St | Wylie | TX | 75098 | Corps of Engineers, Civil | 103c 3010.
West Virginia Air National Guard | Off Coonskin Park Drive | Charleston | WV | 25301 | Defense | 103c 3010.

[FR Doc. 03-30890 Filed 12-12-03; 8:45 am]

BILLING CODE 6560-50-P